DEPARTMENT OF THE INTERIOR

National Park Service

[NPS-WASO-NAGPRA-NPS0035567; PPWOCRADN0-PCU00RP14.R50000]

Notice of Inventory Completion: Tennessee Valley Authority, Knoxville, TN

AGENCY: National Park Service, Interior.

ACTION: Notice.

SUMMARY: In accordance with the Native American Graves Protection and Repatriation Act (NAGPRA), the Tennessee Valley Authority (TVA) has completed an inventory of human remains and associated funerary objects and has determined that there is a cultural affiliation between the human remains and associated funerary objects and Indian Tribes or Native Hawaiian organizations in this notice. The human remains and associated funerary objects were removed from the states of Alabama, Kentucky, and Tennessee.

DATES: Repatriation of the human remains and associated funerary objects in this notice may occur on or after April 28, 2023.

ADDRESSES: Meg Cook, Tennessee Valley Authority, 400 West Summit Hill Drive, WT11C, Knoxville, TN 37902-1401, telephone (865) 253-1265, email tvatribal@tva.gov.

SUPPLEMENTARY INFORMATION: This notice is published as part of the National Park Service's administrative responsibilities under NAGPRA. The determinations in this notice are the sole responsibility of TVA. The National Park Service is not responsible for the determinations in this notice. Additional information on the determinations in this notice, including the results of consultation, can be found in the inventory or related records held by TVA.

Description

The human remains and associated funerary objects described in this notice are under the control of TVA, and in the physical custody of TVA and its partner repositories, which include but are not limited to the University of Alabama, the University of Kentucky, Mississippi State University, Southern Illinois University, and the University of Tennessee.

Human remains representing, at minimum, 722 individuals were removed as a result of TVA action in the state of Alabama from Colbert, Franklin, Jackson, Lauderdale, Lawrence, Limestone, Madison, Marshall, and Morgan Counties. The 522 lots of associated funerary objects include lithics, ceramics, personal adornments (hair pins, beads), copper, canine burials, and shell.

Human remains representing, at minimum, eight individuals were removed as a result of TVA action in the state of Kentucky from Livingston, Lyon, Marshall, McCracken, and Trigg Counties. The two lots of associated funerary objects includes faunal remains.

Human remains representing, at minimum, 3,676 individuals were removed as a result of TVA action in the eastern half of Tennessee from Anderson, Bedford, Bledsoe, Blount, Bradley, Campbell, Cannon, Carter, Claiborne, Clay, Cocke, Coffee, Cumberland, De Kalb, Fentress, Franklin, Grainger, Greene, Grundy, Hamblen, Hamilton, Hancock, Hawkins, Jackson, Jefferson, Johnson, Knox, Lincoln, Loudon, Macon, Marion, Marshall, McMinn, Meigs, Monroe, Moore, Morgan, Overton, Pickett, Polk, Putnam, Rhea, Roane, Rutherford, Scott, Sequatchie, Sevier, Smith, Sullivan, Trousdale, Unicoi, Union, Van Buren, Warren, Washington, White, and Wilson Counties. The 739 lots of associated funerary objects include lithics, ceramics, minerals, botanical remains, shell, and personal adornments (beads and gorgets).

Human remains representing, at minimum, 465 individuals were removed as a result of TVA action in the western half of Tennessee from Benton, Carroll, Cheatham, Chester, Crockett, Davidson, Decatur, Dickson, Dyer, Fayette, Gibson, Giles, Hardeman, Hardin, Haywood, Henderson, Henry, Hickman, Houston, Humphreys, Lake, Lauderdale, Lawrence, Lewis, Madison, Maury, McNairy, Montgomery, Obion, Perry, Robertson, Shelby, Stewart, Sumner, Tipton, Wayne, Weakley, and Williamson Counties. The 126 lots of associated funerary objects include canine remains, lithics, ceramics, and bone tools.

Cultural Affiliation

Cultural affiliation is defined by state or by region in the determinations section of this notice. The human remains and associated funerary objects in this notice are connected to one or more identifiable earlier groups, tribes, peoples, or cultures. There is a relationship of shared group identity between the identifiable earlier groups, tribes, peoples, or cultures and one or more Indian Tribes or Native Hawaiian organizations. Geographical and other relevant information were used to reasonably trace the relationship.

Determinations

Pursuant to NAGPRA and its implementing regulations, and after consultation with the appropriate Indian Tribes and Native Hawaiian organizations, Tennessee Valley Authority has determined that:

• The human remains described in this notice represent the physical remains of 4,871 individuals of Native American ancestry, at minimum.

• The 1,389 lots of objects described in this notice are reasonably believed to have been placed with or near individual human remains at the time of death or later as part of the death rite or ceremony.

• There is a relationship of shared group identity that can be reasonably traced between the human remains and associated funerary objects described in this notice as removed from the state of Alabama and the Absentee Shawnee Tribe of Indians of Oklahoma; Alabama-Coushatta Tribe of Texas; Cherokee Nation; Coushatta Tribe of Louisiana; Eastern Band of Cherokee Indians; Eastern Shawnee Tribe of Oklahoma; Jena Band of Choctaw Indians; Kialegee Tribal Town; Poarch Band of Creek Indians; Shawnee Tribe; The Chickasaw Nation; The Choctaw Nation of Oklahoma; The Muscogee (Creek) Nation; The Seminole Nation of Oklahoma; Thlopthlocco Tribal Town; and the United Keetoowah Band of Cherokee Indians in Oklahoma.

• There is a relationship of shared group identity that can be reasonably traced between the human remains and associated funerary objects described in this notice as removed from the state of Kentucky and the Absentee Shawnee Tribe of Indians of Oklahoma; Cherokee Nation; Delaware Nation, Oklahoma; Eastern Band of Cherokee Indians; Eastern Shawnee Tribe of Oklahoma; Peoria Tribe of Indians of Oklahoma; Quapaw Nation; Shawnee Tribe; The Chickasaw Nation; The Osage Nation; and the United Keetoowah Band of Cherokee Indians in Oklahoma.

• There is a relationship of shared group identity that can be reasonably traced between the human remains and associated funerary objects described in this notice as removed from the eastern half of Tennessee and the Absentee Shawnee Tribe of Indians of Oklahoma; Alabama-Coushatta Tribe of Texas; Cherokee Nation; Coushatta Tribe of Louisiana; Eastern Band of Cherokee Indians; Eastern Shawnee Tribe of Oklahoma; Jena Band of Choctaw Indians; Kialegee Tribal Town; Shawnee Tribe; The Chickasaw Nation; The Muscogee (Creek) Nation; The Seminole Nation of Oklahoma; Thlopthlocco Tribal Town; and the United Keetoowah Band of Cherokee Indians in Oklahoma.

• There is a relationship of shared group identity that can be reasonably traced between the human remains and associated funerary objects described in this notice as removed from the western half of Tennessee and the Absentee Shawnee Tribe of Indians of Oklahoma; Alabama-Coushatta Tribe of Texas; Cherokee Nation; Coushatta Tribe of Louisiana; Eastern Band of Cherokee Indians; Eastern Shawnee Tribe of Oklahoma; Jena Band of Choctaw Indians; Kialegee Tribal Town; Mississippi Band of Choctaw Indians; Quapaw Nation; Shawnee Tribe; The Chickasaw Nation; The Choctaw Nation of Oklahoma; The Muscogee (Creek) Nation; The Osage Nation; Thlopthlocco Tribal Town; and the United Keetoowah Band of Cherokee Indians in Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 28, 2023. If competing requests for repatriation are received, TVA must determine the most appropriate requestor prior to repatriation. Requests for joint repatriation of the human remains and associated funerary objects are considered a single request and not competing requests. TVA is responsible for sending a copy of this notice to the Indian Tribes and Native Hawaiian organizations identified in this notice.

Authority: Native American Graves Protection and Repatriation Act, 25 U.S.C. 3003, and the implementing regulations, 43 CFR 10.9, 10.10, and 10.14.

Dated: March 22, 2023.
Melanie O'Brien,
Manager, National NAGPRA Program.

[FR Doc. 2023-06479 Filed 3-28-23; 8:45 am]

BILLING CODE 4312-52-P